DEPARTMENT OF COMMERCE

National Oceanic and Atmospheric Administration

National Estuarine Research Reserve System

AGENCY: Office of Ocean and Coastal Resource Management (OCRM), National Ocean Service (NOS), National Oceanic and Atmospheric Administration, Department of Commerce.

ACTION: Notice of public meeting in Rockport, Texas on the site selection process for the nomination of a candidate site for the National Estuarine Research Reserve System.

DATES: Wednesday, June 11, 2003 at 2 p.m.

ADDRESSES: Saltwater Pavilion, 810 Seabreeze Drive, Rockport Beach Park, Rockport, Texas 78383.

SUMMARY: In accordance with section 315 of the Coastal Zone Management Act of 1972, as amended, the State of Texas and the National Oceanic and Atmospheric Administration (NOAA) intend to conduct a public meeting on June 11, 2003 in Rockport, Texas as part of NOAA's site selection process for the nomination of a candidate site for the National Estuarine Research Reserve System (Reserve System).

SUPPLEMENTARY INFORMATION: The mission of the Reserve System is to promote stewardship of the nation's estuaries through science and education using a system of protected areas. NOAA has developed a classification scheme and typology of national estuarine areas that places the coastlines of the United States into biogeographic regions and subregions. Reserves are selected to represent these biogeographic regions and subregions and the wide range of coastal and estuarine habitats found in the United States.

Site selection criteria for a new reserve are based on environmental representativeness; value for research, monitoring, education, interpretation, and stewardship; acquisition and accessibility considerations; and coastal management considerations. The site ultimately designated will be used by researchers, educators, and the general public to study estuarine ecology and resource management issues that can aid in coastal policymaking and management decisions.

During the past year, the State of Texas in consultation with NOAA has undertaken a process to identify a site that adequately represents the major estuarine characteristics of a coastal ecosystem in the western Gulf of Mexico. An estuary located in Texas would be the first site to represent the Western Gulf Subregion of the Louisianian Biogeographic Region (Galveston to Mexico).

After consideration of several possible sites along the Texas coast, the Texas National Estuarine Research Reserve Site Selection Committee and Site Evaluation Subcommittee have selected Mission/Aransas Estuary located on the central Texas coast as a candidate site for nomination as a potential reserve. The public meeting is being held to provide details and solicit comments on this proposed site.

At the public meeting, the University of Texas at Austin Marine Science Institute will provide an overview of the Reserve System Program, the Texas site selection process, a physical description of the proposed site, and an open question and answer period.

Following the public meeting, a site nomination document will be finalized based on existing research documents and literature, and comments received from NOAA, the Texas Site Selection Committee and Site Evaluation Subcommittee, and the general public. The final site selection document will then be sent to the Governor of Texas for approval. If approved, the Governor will forward the site selection package and a nomination letter to NOAA for final clearance. A draft and final Environmental Impact Statement and Management Plan must be prepared prior to final site designation.

The public meeting will be held on Wednesday, June 11, 2003 at 2 p.m. at the Saltwater Pavilion, 810 Seabreeze Drive within the Rockport Beach Park, Rockport, Texas 78383. Interested parties who wish to comment on the site selection are invited to attend.

FOR FURTHER INFORMATION CONTACT: Paul Montagna, University of Texas at Austin Marine Science Institute at (361) 749-6779 or paul@utmsi.utexas.edu; or Nathalie Peter, Project Manager, Estuarine Reserves Division, Office of Ocean and Coastal Resource Management, NOAA, at (301) 713-3155, extension 119, or nathalie.peter@noaa.gov.

Federal Domestic Assistance Catalog Number 11.420 (Coastal Zone Management) Research Reserves.
Dated: May 9, 2003.
Jamison S. Hawkins,
Acting Assistant Administrator, Ocean Services and Coastal Zone Management, National Oceanic and Atmospheric Administration.

[FR Doc. 03-12362 Filed 5-16-03; 8:45 am]

BILLING CODE 3510-08-P